SECURITIES AND EXCHANGE COMMISSION

Issuer Delisting: Notice of Application of KBK Capital Corporation to Withdraw Its Common Stock, $.01 Par Value, from Listing and Registration on the Pacific Exchange, Inc., File No. 1-14152

September 20, 2002.

KBK Capital Corporation, a Delaware corporation (“Issuer”), has filed an application with the Securities and Exchange Commission (“Commission”), pursuant to section 12(d) of the Securities Exchange Act of 1934 (“Act”) ¹ and Rule 12d-2(d) thereunder,² to withdraw its Common Stock, $.01 par value (“Security”), from listing and registration on the Pacific Exchange, Inc. (“PCX” or “Exchange”).

¹ 15 U.S.C. 781(d).

² 17 CFR 240.12d2-2(d).

The Issuer stated in its application that it has met the requirements of the PCX governing an issuer's voluntary withdrawal of a security from listing and registration and has complied with all applicable laws in effect in the State of Delaware, in which it is incorporated.

The Board of Directors (“Board”) of the Issuer approved a resolution on August 22, 2002 to withdraw the Issuer's Security from listing on the PCX. In making the decision to withdraw its Security from the PCX, the Board notes that the Security is held by less than three hundred (300) persons. In addition, there is low trading volume in the Security, and the extent and nature of the Security is erratic and thin. The Board states that it is not in the best interest of the Issuer to continue to be subject to the limitations and cost associated with maintaining the listing requirements for its Security. The Issuer's application relates solely to the Security's withdrawal from listing on the PCX and from registration under section 12(b) of the Act,³ and shall not affect its obligation to be registered under section 12(g) of the Act.⁴

³ 15 U.S.C. 78l(b).

⁴ 15 U.S.C. 78l(g).

Any interested person may, on or before October 11, 2002, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-24483 Filed 9-25-02; 8:45 am]

BILLING CODE 8010-01-M